DEPARTMENT OF COMMERCE

National Oceanic and Atmospheric Administration

Hydrographic Services Review Panel; Meeting

AGENCY: National Ocean Service, NOAA, Department of Commerce.

ACTION: Notice of open meeting.

SUMMARY: The Hydrographic Services Review Panel (HSRP) was established by the Secretary of Commerce and is the only Federal Advisory Committee with the responsibility to advise the Under Secretary of Commerce for Oceans and Atmosphere on matters related to the responsibilities and authorities set forth in section 303 of the Hydrographic Services Improvement Act of 1998, its amendments, and such other appropriate matters the Under Secretary refers to the Panel for review and advice.

DATES: The meeting will be held Thursday, July 29, 2004, from 8:30 a.m. to 2:30 p.m. The times and agenda topics may be subject to change. Refer to the web page listed below for the most up-to-date meeting agenda.

ADDRESSES: The meeting will be held at the Crowne Plaza Times Square Hotel, 1605 Broadway, New York, New York 10019.

FOR FURTHER INFORMATION CONTACT: Captain Roger Parsons, Designated Federal Official, Office of Coast Survey, National Ocean Service, NOAA (N/CS), 1315 East West Highway, Silver Spring, Maryland, 20910. Phone: (301) 713-2770, Fax: (301) 713-4019; e-mail: Hydroservices.panel@noaa.gov or visit the NOAA HSRP Web site at http://nauticalcharts.noaa.gov/ocs/hsrp/hsrp.htm.

SUPPLEMENTARY INFORMATION: The meeting will be open to public participation with a 30-minute time period set aside for verbal comments or questions from the public on Thursday, July 29, 2004, at approximately 11:30 a.m. Each individual or group making a verbal presentation will be limited to a total time of five (5) minutes. Written comments (at least 40 copies) should be submitted to the Designated Federal Official by July 20, 2004. Written comments received by the HSRP Designated Federal Official after July 20, 2004, will be distributed to the HSRP, but may not be reviewed prior to the meeting date. Approximately thirty (30) seats will be available for the public, including five (5) seats reserved for the media. Seats will be available on a first-come, first-served basis.

Matters to be Considered: Topics planned for discussion at the meeting include: (1) National Hydrographic Survey Priorities, (2) Physical Oceanographic Real-Time System, (3) Integrated Ocean Observing System, (4) U.S. Government Hydrographic/Oceanographic Fleet, and (5) Public Statements.

Dated: June 25, 2004.
Captain Roger L. Parsons,
Director, Office of Coast Survey, National Ocean Service, National Oceanic and Atmospheric Administration.

[FR Doc. 04-15774 Filed 7-12-04; 8:45 am]

BILLING CODE 3510-JE-M